DEPARTMENT OF COMMERCE

International Trade Administration

[A-570-825]

Sebacic Acid From the People's Republic of China: Notice of Final Results of Changed Circumstances Review and Intent Not To Revoke the Antidumping Duty Order

AGENCY: Import Administration, International Trade Administration, Department of Commerce.

ACTION: Notice of final results of changed circumstances antidumping duty administrative review and intent not to revoke antidumping duty order.

SUMMARY: On March 27, 2003, the Department published a notice of preliminary results of changed circumstances review and preliminarily found that there was no reasonable basis to determine that changed circumstances sufficient to warrant revocation exist. In our preliminary results, we gave interested parties an opportunity to comment. See 68 FR 14945 (March 27, 2003). On April 25, 2003, the sole domestic producer of sebacic acid, SST Materials, Inc., doing business as Genesis Chemicals, Inc. (Genesis), submitted a letter in support of the Department's preliminary results. We received no other comments. Therefore, the final results do not differ from the preliminary results, and we find that changed circumstances do not exist to warrant revocation of the order.

EFFECTIVE DATE: May 28, 2003.

FOR FURTHER INFORMATION CONTACT: Mike Strollo or Gregory E. Kalbaugh at (202) 482-0629 or (202) 482-3693, respectively, Office of AD/CVD Enforcement, Office 2, Import Administration, International Trade Administration, U.S. Department of Commerce, 14th Street and Constitution Avenue, NW., Washington, DC 20230.

SUPPLEMENTARY INFORMATION:

Background

On March 27, 2003, the Department published in the Federal Register a notice of preliminary results of changed circumstances review and preliminary intent not to revoke the antidumping duty order for sebacic acid from the People's Republic of China (PRC). See 68 FR 14945. On April 25, 2003, Genesis submitted comments on the Department's preliminary results. Genesis reiterated that it was the sole domestic producer of sebacic acid, produces commercial quantities of sebacic acid in the United States, and noted that since filing both its questionnaire response and additional comments in February 2003, it has increased its production staff and invested additional capital to increase domestic sebacic acid production capacity. We received no other comments from interested parties on the Department's preliminary results.

Scope of the Review

The products covered by this review are all grades of sebacic acid, a dicarboxylic acid with the formula (CH2)8(COOH)2, which include but are not limited to CP Grade (500ppm maximum ash, 25 maximum APHA color), Purified Grade (1000ppm maximum ash, 50 maxim-um APHA color), and Nylon Grade (500ppm maximum ash, 70 maximum ICV color). The principal difference between the grades is the quantity of ash and color. Sebacic acid contains a minimum of 85 percent dibasic acids of which the predominant species is the C10 dibasic acid. Sebacic acid is sold generally as a free-flowing powder/flake.

Sebacic acid has numerous industrial uses, including the production of nylon 6/10 (a polymer used for paintbrush and toothbrush bristles and paper machine felts), plasticizers, esters, automotive coolants, polyamides, polyester castings and films, inks and adhesives, lubricants, and polyurethane castings and coatings.

Sebacic acid is currently classifiable under subheading 2917.13.00.30 of the Harmonized Tariff Schedule of the United States (HTSUS). Although the HTSUS subheading is provided for convenience and customs purposes, our written description of the scope of this proceeding is dispositive.

Final Results of Changed Circumstances Review

Pursuant to §751(d) of the Tariff Act of 1930 (the Act), the Department may revoke an antidumping duty order based on a review under §751(b) of the Act. 19 CFR 351.222(g)(1)(i) provides that the Department may revoke an order, in whole or in part, based on changed circumstances if “(p)roducers accounting for substantially all of the production of the domestic like product to which the order (or the part of the order to be revoked) * * * have expressed a lack of interest in the order, in whole or in part * * *” See also §782(h)(2) of the Act. Based on the fact that Genesis objects to the revocation of the antidumping duty order, and has indicated that it comprises the universe of domestic sebacic acid producers, we have determined that there are no grounds for concluding that substantially all of the domestic producers of like product have expressed a lack of interest in maintaining the order.¹ As a result, we determine that changed circumstances sufficient to warrant revocation of the antidumping duty order on sebacic acid from the PRC do not exist. Therefore, the Department is maintaining the order on sebacic acid from the PRC.

¹ An article from the trade journal “Chemical Market Reporter,” dated January 20, 2003, was placed on the record which indicated that: (1) Arizona Chemical Corporation and CasChem, Inc. had been the only domestic producers of sebacic acid but both ceased domestic production of sebacic acid in December 2002; (2) Genesis began producing sebacic acid in December 2002; and (3) Genesis, as of January 2003, was the sole domestic producer of sebacic acid.

This notice is published in accordance with §§ 751(b)(1) and 777(i) of the Act, and 19 CFR 351.221(c)(3).

Dated: May 21, 2003.
Joseph A. Spetrini,
Acting Assistant Secretary for Import Administration.

[FR Doc. 03-13264 Filed 5-27-03; 8:45 am]

BILLING CODE 3510-DS-P